NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: May 6, 2009; 8:30 a.m. to 5 p.m.; May 7, 2009; 8:30 a.m. to 1:30 p.m.

Place: National Science Foundation Headquarters, Stafford Place I—Room 1235 4201 Wilson Boulevard, Arlington, VA 22230.

Type of Meeting: Open.

Contact Person: James Colby, National Science Foundation, 4201 Wilson Boulevard, Arlington, VA 22230, (703) 292-5331, jcolby@nsf.gov.

If you are attending the meeting and need access to the NSF, please contact the individual listed above so your name may be added to the building access list.

Purpose of Meeting: To provide advice with respect to the Foundation's science, technology, engineering, and mathematics (STEM) education and human resources programming.

Agenda:

May 6, 2009

I. Acting Assistant Director's Remarks

II. Discussion of EHR Investment Themes:

• Broadening Participation to Improve Workforce Development

• Promoting Learning Through Research and Evaluation

• Enriching the Education of STEM Teachers

• Advancing Career Development Opportunities

III. Visit From the Office of the NSF Director

IV. Review and Acceptance of Committee of Visitors Report

• Robert Noyce Teacher Scholarships Program

May 7, 2009

V. Discussion of Strategic Partnerships

VI. Subcommittee Meetings

VII. Future Issues for Consideration

Dated: April 15, 2009.
Susanne Bolton,
Committee Management Officer.

[FR Doc. E9-8967 Filed 4-17-09; 8:45 am]

BILLING CODE 7555-01-P